DEPARTMENT OF COMMERCE

International Trade Administration

[A-570-095, C-570-096]

Aluminum Wire and Cable From the People's Republic of China: Preliminary Negative Scope Determinations With Respect to Cambodia, Korea, and Vietnam; Preliminary Affirmative Determinations of Circumvention With Respect to Korea and Vietnam; Preliminary Negative Determination of Circumvention With Respect to Cambodia

AGENCY: Enforcement and Compliance, International Trade Administration, Department of Commerce.

SUMMARY: The U.S. Department of Commerce (Commerce) preliminarily determines that imports of aluminum wire and cable (AWC) completed in Cambodia, the Republic of Korea (Korea), and the Socialist Republic of Vietnam (Vietnam) (collectively, the third countries) using certain AWC inputs manufactured in the People's Republic of China (China) are not covered by scope of the antidumping duty (AD) and countervailing duty (CVD) orders on AWC from China. In addition, Commerce preliminarily determines that AWC completed in Korea and Vietnam using certain AWC inputs manufactured in China are circumventing the orders. Commerce also preliminarily determines that AWC completed in Cambodia using certain AWC inputs manufactured in China are not circumventing the orders. Commerce is also imposing a certification requirement with respect to applicable entries from Korea and Vietnam. Interested parties are invited to comment on these preliminary determinations.

DATES: Applicable August 7, 2024.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On December 23, 2019, Commerce published the orders in the Federal Register.¹ On October 19, 2023, pursuant to 19 CFR 351.225(b), Commerce self-initiated scope inquiries to determine whether imports of AWC completed in Cambodia, Korea, and Vietnam using inputs manufactured in China are covered by the Orders.² On this same day, pursuant to 19 CFR 351.226(b) and section 781(b) of the Tariff Act of 1930, as amended (the Act), Commerce also self-initiated country-wide circumvention inquiries to determine whether imports of AWC from Cambodia, Korea, and Vietnam, if outside of the scope of the Orders, are nonetheless circumventing the Orders. Commerce aligned both the scope and circumvention inquiries in accordance with 19 CFR 351.225(e)(3) and 19 CFR 351.226(e)(e).

¹ See Aluminum Wire and Cable from the People's Republic of China: Antidumping and Countervailing Duty Orders, 84 FR 70496 (December 23, 2019) (Orders).

² See Aluminum Wire and Cable from the People's Republic of China: Initiation of Scope and Circumvention Inquiries of the Antidumping Duty and Countervailing Duty Orders, 88 FR 72041 (October 19, 2023) (Initiation Notice), and accompanying Initiation Memorandum.

In the Initiation Notice, Commerce determined that it is appropriate to first determine whether the merchandise is subject to the scope of the Orders through a scope inquiry before considering whether the merchandise is circumventing the Orders. Commerce also stated that, accordingly, it would initially conduct a scope inquiry of the merchandise at issue, and then once it has made a determination as the scope coverage status of the merchandise, would determine whether to proceed with a circumvention inquiry.³

³ See Initiation Notice.

Between February 12 and 23, 2024, Commerce selected respondents from each of the third countries as mandatory respondents in these scope and circumvention inquiries.⁴ On March 8, 2024, Commerce extended the deadline for these preliminary determinations until June 13, 2024.⁵ On June 5, 2024, and based on a request from Encore Wire Corporation (Encore) and Southwire Company LLC (Southwire) (collectively, the petitioners),⁶ Commerce further extended these preliminary determinations to July 12, 2024.⁷ On July 12, 2024, we further extended the deadline for the preliminary determinations to July 24, 2024.⁸ On July 22, 2024, Commerce tolled certain deadlines in this administrative proceeding by seven days. The deadline for these preliminary determinations is now July 31, 2024.⁹ For a complete description of the events that followed initiation of these scope and circumvention investigations, see the Preliminary Decision Memoranda.¹⁰ The Preliminary Decision Memoranda are public documents and are on file electronically via Enforcement and Compliance's Antidumping and Countervailing Duty Centralized Electronic Service System (ACCESS). ACCESS is available to registered users at https://access.trade.gov. In addition, complete versions of the Preliminary Decision Memoranda can be access directly at https://access.trade.gov/public/FRNoticesListLayout.aspx.

⁴ See Memoranda, “Respondent Selection Regarding the Scope and Circumvention Inquiries with Respect to the Republic of Korea,” dated February 12, 2024; “Respondent Selection Regarding the Scope and Circumvention Inquiries with Respect to the Socialist Republic of Vietnam,” dated February 12, 2024; and “Respondent Selection Regarding the Scope and Circumvention Inquires for the Kingdom of Cambodia,” dated February 23, 2024.

⁵ See Memorandum, “Extension of Deadlines for the Preliminary Determinations in Circumvention Inquiries,” dated March 8, 2024.

⁶ See Petitioners' Letter, “Petitioners' Request that Commerce Extend the Deadlines for its Scope Rulings and Preliminary Circumvention Determinations,” dated May 14, 2024.

⁷ See Memorandum, “Extension of Deadlines for the Final Determination in Circumvention Inquiries,” dated June 5, 2024.

⁸ See Memorandum, “Extension of Deadlines for the Preliminary Determinations in Circumvention Inquiries,” dated July 12, 2024.

⁹ See Memorandum, “Tolling of Deadlines for Antidumping and Countervailing Duty Proceedings,” dated July 22, 2024.

¹⁰ See Memoranda, “Preliminary Decision Memorandum for the Scope Inquiry and Preliminary Decision Memorandum for the Circumvention Inquiry with Respect to Cambodia,” (Cambodia Preliminary Decision Memorandum); “Preliminary Decision Memorandum for the Scope Inquiry and Preliminary Decision Memorandum for the Circumvention Inquiry with Respect to the Republic of Korea;” and “Preliminary Decision Memorandum for the Scope Inquiry and Preliminary Decision Memorandum for the Circumvention Inquiry with Respect to the Socialist Republic of Vietnam,” all dated concurrently with, and hereby adopted by this notice (collectively, Preliminary Decision Memoranda).

Scope of the Orders

The products subject to the Orders are aluminum wire and cable. For a full description of the scope of the Orders, see the Preliminary Decision Memoranda.

Merchandise Subject to the Scope and Anti-Circumvention Inquiries

These inquiries cover AWC assembled or completed in either Cambodia, Korea, or Vietnam using Chinese-origin AWC inputs (e.g., stranded wire and cables or unfinished AWC) that is subsequently exported from the third countries to the United States (inquiry merchandise). These inquiries cover exports of AWC from the third countries that are assembled or completed using inputs of Chinese origin which undergo further processing in the third countries.

Scope Determinations

As detailed in the Preliminary Decision Memoranda, Commerce preliminarily determines that the AWC in question that is produced in the third countries using Chinese inputs does not meet the physical description of the scope of the Orders and, therefore, the AWC produced in the third countries does not fall under the scope of the Orders.¹¹ Commerce noted in the Preliminary Decision Memoranda that it recently made a similar finding regarding merchandise subject to the scope of the Orders.¹²

¹¹ See the Preliminary Decision Memoranda at the sections, “Scope Inquiry.”

¹² Id., citing Notice of Scope Rulings, 89 FR 47896 (June 4, 2024), at the section “A-570-096 and C-570-096: Aluminum Wire and Cable from China,” and accompanying Memorandum, “Aluminum Wire and Cable from the People's Republic of China: Scope Ruling for Imperium Cables, LLC,” dated December 2, 2023, a public document and is on file electronically via ACCESS.

Commerce notes that these preliminary scope determinations are subject to verification of record information submitted by the company respondents in the third countries that are subject to these inquiries. At the completion of these inquiries, Commerce will serve a copy of these scope determinations to interested parties on the scope service list. In addition, Commerce will issue appropriate instructions to U.S. Customs and Border Protection (CBP).

Methodology Regarding Circumvention Inquiries

Commerce made these preliminary circumvention determinations in accordance with section 781(b) of the Act and 19 CFR 351.226. With respect to Korea and Vietnam, we relied on the facts available under section 776(a) of the Act, including facts available with adverse inferences under section 776(b) of the Act, where appropriate.¹³ For a full description of the methodology underlying these preliminary determinations, see the Preliminary Decision Memoranda. A list of topics discussed in the Preliminary Decision Memoranda is included as Appendix I to this notice.

¹³ See the Preliminary Decision Memoranda with Respect to Korea and Vietnam at the section, “Use of Facts Otherwise Available and Application of Adverse Inferences.”

Affirmative Preliminary Determinations of Circumvention: Korea and Vietnam

As detailed in the Preliminary Decision Memoranda, Commerce preliminarily determines that U.S. imports of inquiry merchandise from Korea and from Vietnam are circumventing the Orders on a country-wide basis.¹⁴ As a result, Commerce preliminarily determines that it is appropriate to include inquiry merchandise within the Orders and to instruct CBP to suspend entries of AWC from Korea or from Vietnam that were produced in either Korea or Vietnam and that are produced using inputs sourced from China. To administer these preliminary affirmative determinations of circumvention, exporters and importers of AWC completed in Korea or Vietnam using non-Chinese origin aluminum wire rod, aluminum wire strand, or aluminum wire will be permitted to attest that specific entries are not subject to the suspension of liquidation or the collection of cash deposits.

¹⁴ See the Preliminary Decision Memoranda with respect to Korea and Vietnam at the section, “Certification Process and Country-Wide Preliminary Affirmative Determination of Circumvention.”

See the “Suspension of Liquidation” section below for details regarding the suspension of liquidation and cash deposit requirements. See the “Certification” and “Certification Requirements” sections below regarding the use of certifications.

Suspension of Liquidation

Based on the preliminary affirmative country-wide determinations of circumvention with respect to Korea and Vietnam, in accordance with 19 CFR 351.225(l)(2), Commerce will direct CBP to suspend liquidation and to require a cash deposit of estimated duties on unliquidated entries of inquiry merchandise that were entered, or withdrawn from warehouse, for consumption, on or after October 19, 2023, the date of publication of the initiation of these circumvention inquiries in the Federal Register.¹⁵

¹⁵ See Initiation Notice.

Where companies subject to these inquiries have their own company-specific rate under the Orders, the cash deposit rate will be the company-specific rate. Otherwise, Commerce will instruct CBP to require AD cash deposits equal to the China-wide rate of 52.79 percent and CVD cash deposits equal to 33.44 percent.¹⁶ The suspension of liquidation will remain in effect until further notice.

¹⁶ See Orders.

Negative Preliminary Determination of Circumvention: Cambodia

Also as detailed in the Cambodia Preliminary Decision Memorandum, Commerce preliminarily determines that U.S. imports of inquiry merchandise from Cambodia are not circumventing the Orders.¹⁷ As a result, in accordance with section 781(b) of the Act, Commerce preliminarily determines that the inquiry merchandise exported from Cambodia should not be included within the scope of the Orders.

¹⁷ See Cambodia Preliminary Decision Memorandum at the section, “Country-Wide Preliminary Negative Determination of Circumvention.”

Certified Entries

Entries for which the importer has met the certification requirements described below and in Appendix II to this notice will not be subject to suspension of liquidation, or the cash deposit requirements described above. Failure to comply with the applicable requisite certification requirements may result in the merchandise being subject to antidumping and countervailing duties.

Certifications

To administer the preliminary country-wide affirmative circumvention determinations for Korea and for Vietnam, Commerce has established importer and exporter certifications as provided for in Appendix II to this notice. These certifications will permit importers and exporters to establish that specific entries of AWC from Korea and Vietnam are not subject to suspension of liquidation or the collection of cash deposits pursuant to these preliminary country-wide affirmative determinations of circumvention because the merchandise was processed in either Korea or in Vietnam and does not incorporate Chinese-sourced aluminum wire rod, aluminum wire strand, or aluminum wire. Importers and exporters that claim that an entry of AWC is not subject to suspension of liquidation or the collection of cash deposits because the merchandise was processed in either Korea or in Vietnam and does not incorporate Chinese-sourced aluminum wire rod, aluminum wire strand, or aluminum wire must certify that these products satisfy the requirements of these certification requirements as described in Appendix II of this notice.

Certification Requirements for Korea and Vietnam

Importers are required to complete and maintain the applicable importer certification, and maintain a copy of the applicable exporter certification, and retain all supporting documentation for both certifications. The importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as brokers, however, are not permitted to certify on behalf of the importer.

Exporters are required to complete and maintain the applicable exporter certification and provide the importer with a copy of that certification and all supporting documentation (e.g., invoice, purchase order, production records, etc.). The exporter certification must be completed, signed, and dated by the time of shipment of the relevant entries. The exporter certification should be completed by the party selling the AWC that was manufactured in Korea or Vietnam to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all AWC from Korea or Vietnam that were entered, or withdrawn from warehouse, for consumption during the period October 19, 2023 (the date of initiation of these circumvention inquiries) through the date of publication of these preliminary affirmative determinations in the Federal Register, where the entry has not been liquidated (and entries for which liquidation has not become final), the relevant certification should be completed and signed as soon as practicable, but not later than 45 days after the date of publication of these preliminary determinations in the Federal Register. For such entries, importers, and exporters each have the option to complete a blanket certification covering multiple entries, individual certifications for each entry, or a combination thereof. The exporter must provide the importer with a copy of the exporter certification within 45 days of the date of publication of these preliminary determinations in the Federal Register.

For unliquidated entries (and entries for which liquidation has not become final) of AWC that were declared as non-AD/CVD type entries (e.g., type 01) and entered, or withdrawn from warehouse, for consumption in the United States during the period October 19, 2023 (the date of initiation of these circumvention inquiries) through the date of publication of the preliminary determinations in the Federal Register, for which none of the above certifications may be made, importers must file a Post Summary Correction with CBP, in accordance with CBP's regulations, regarding conversion of such entries from non-AD/CVD type entries to AD/CVD type entries (e.g., type 01 to type 03). Importers should report those AD/CVD type entries using the following third-country case numbers: Korea A-580-095-000/C-580-096-000; and Vietnam A-552-095-000/C-552-096-000. Other third-country case numbers may be established following the process described above. The importer should pay cash deposits on those entries consistent with the regulations governing post summary corrections that require payment of additional duties.

If it is determined that an importer and/or exporter has not met the certification and/or related documentation requirements for certain entries, Commerce intends to instruct CBP to suspend, pursuant to these preliminary country-wide affirmative determinations of circumvention and the Orders,¹⁸ all unliquidated entries for which these requirements were not met and require the importer to post applicable AD and CVD cash deposits equal to the rates noted above.

¹⁸ See Orders.

Interested parties may comment on these certification requirements, and on the certification language contained in the appendices to this notice in their case briefs.

Verification

As provided in 19 CFR 351.226(f)(3), Commerce intends to verify the information relied upon in making its final determinations.

Public Comment and Request for Hearing

Case briefs or other written comments should be submitted to the Assistant Secretary for Enforcement and Compliance no later than seven days after the date on which any verification report is issued. Rebuttal briefs, limited to issues raised in case briefs, may be submitted no later than five days after the deadline for case briefs.¹⁹ Pursuant to 19 CFR 351.309(c)(2) and (d)(2), parties who submit case briefs or rebuttal briefs in these circumvention inquiries must submit: (1) a statement of the issue; and (2) a table of authorities. Case and rebuttal briefs should be filed using ACCESS.

¹⁹ See 19 CFR 351.309(d); see also Administrative Protective Order, Service, and Other Procedures in Antidumping and Countervailing Duty Proceedings, 88 FR 67069 (September 29, 2023) (APO and Service Final Rule).

As provided in 19 CFR 351.309(c)(2) and (d)(2), in prior proceedings we have encouraged interested parties to provide an executive summary of their brief that should be limited to five pages total, including footnotes. In these scope and circumvention inquiries, we instead request that interested parties provide at the beginning of their briefs, a public executive summary for each issue raised in their briefs.²⁰ Further, we request that interested parties limit their public executive summary of each issue to no more than 450 words, not including citations. We intend to use the public executive summaries as the basis of the comment summaries included in the issues and decision memorandum that will accompany the final determination in these scope and circumvention inquiries. We request that interested parties include footnotes for relevant citations in the public executive summary of each issue. Note that Commerce has amended certain of its requirements pertaining to the service of documents in 19 CFR 351.303(f).²¹

²⁰ We use the term “issue” here to describe an argument that Commerce would normally address in a comment of the Issues and Decision Memorandum.

²¹ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice in the Federal Register, filed electronically via ACCESS. Requests should contain: (1) the requesting party's name, address, and telephone number; (2) the number of individuals from the requesting party that will attend the hearing; and (3) a list of the issues that the party intends to discuss at the hearing. Oral presentations at the hearing will be limited to issues raised in the briefs. If a request for a hearing is made, parties will be notified of the time and date for the hearing.

U.S. International Trade Commission Notification

Commerce, consistent with section 781(e) of the Act, will notify the U.S. International Trade Commission (ITC) of these preliminary determinations to include the merchandise subject to these circumvention inquiries within the Orders. Pursuant to section 781(e) of the Act, the ITC may request consultations concerning Commerce's proposed inclusion of the inquiry merchandise. If, after consultations, the ITC believes that a significant injury issue is presented by the proposed inclusion, it will have 60 days from the date of notification by Commerce to provide written advice.

Notification to Interested Parties

Commerce is issuing and publishing these determinations in accordance with section 781(b) of the Act, 19 CFR 351.225(g), and 19 CFR 351.226(g)(1).

Dated: July 31, 2024.
Ryan Majerus,
Deputy Assistant Secretary for Policy and Negotiations, performing the non-exclusive functions and duties of the Assistant Secretary for Enforcement and Compliance.

Appendix I

Topics Discussed in the Preliminary Decision Memoranda

Cambodia

I. Summary

II. Background

III. Scope of the Orders

IV. Merchandise Subject to These Circumvention and Scope Inquiries

V. Scope Inquiry

VI. Circumvention Inquiry

VII. Country-Wide Preliminary Negative Determination of Circumvention

VIII. Recommendation

Korea

I. Summary

II. Background

III. Treatment of Voluntary Respondent

IV. Untimely Submission

V. Scope of the Orders

VI. Merchandise Subject to These Circumvention and Scope Inquiries

VII. Use of Facts Otherwise Available and Application of Adverse Inferences

VIII. Scope Inquiry

IX. Circumvention Inquiry

X. Summary of Statutory Analysis

XI. Certification Process and Country-Wide Preliminary Affirmative Determination of Circumvention

XII. Recommendation

Vietnam

I. Summary

II. Background

III. Scope of the Orders

IV. Merchandise Subject to These Circumvention and Scope Inquiries

V. Use of Facts Otherwise Available and Application of Adverse Inferences

VI. Scope Inquiry

VII. Circumvention Inquiry

VIII. Certification Process and Country-Wide Preliminary Affirmative Determination of Circumvention

IX. Recommendation

Appendix II

Importer Certification

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of the aluminum wire and cable (AWC) assembled or completed in {select Korea or Vietnam} that under entry summary number(s), identified below, and are covered by this certification. “Direct personal knowledge” refers to facts the certifying party is expected to have in its own records. For example, the importer should have direct personal knowledge of the importation of AWC, including the exporter's and/or foreign seller's identity and location.

(C) If the importer is acting on behalf of the first U.S. customer, include the following sentence as paragraph C of this certification:

The AWC covered by this certification was imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

(D) The AWC covered by this certification was shipped to {NAME OF PARTY IN THE UNITED STATES TO WHOM THE MERCHANDISE WAS FIRST SHIPPED}, located at {U.S. ADDRESS TO WHICH MERCHANDISE WAS SHIPPED}.

(E) I have personal knowledge of the facts regarding the production of the imported products covered by this certification. “Personal knowledge” includes facts obtained from another party, (e.g., correspondence received by the importer (or exporter) from the producer regarding the source of the inputs (i.e., aluminum wire rod, aluminum wire strand, or aluminum wire) used to produce the imported AWC).

(F) This certification applies to the following entries (repeat this block as many times as necessary):

Entry Summary #:

Entry Summary Line Item #:

Foreign Seller:

Foreign Seller's Address:

Foreign Seller's Invoice #:

Foreign Seller's Invoice Line Item #:

Country of Origin of HRS:

Producer:

Producer's Address:

(G) The AWC covered by this certification does not contain aluminum wire rod, aluminum wire strand, or aluminum wire produced in the People's Republic of China.

(H) I understand that {IMPORTING COMPANY} is required to maintain a copy of this certification and sufficient documentation supporting this certification (i.e., documents maintained in the normal course of business, or documents obtained by the certifying party, for example, certificates of origin, product data sheets, mill test reports, productions records, invoices, etc.) until the later of: (1) the date that is five years after the date of the latest entry covered by the certification; or (2) the date that is three years after the conclusion of any litigation in the United States courts regarding such entries.

(I) I understand that {IMPORTING COMPANY} is required to maintain a copy of the exporter's certification (attesting to the production and/or exportation of the imported merchandise identified above), and any supporting documentation provided to the importer by the exporter, until the later of: (1) the date that is five years after the date of the latest entry covered by the certification; or (2) the date that is three years after the conclusion of any litigation in United States courts regarding such entries.

(J) I understand that {IMPORTING COMPANY} is required to provide U.S. Customs and Border Protection (CBP) and/or the U.S. Department of Commerce (Commerce) with the importer certification, and any supporting documentation, and a copy of the exporter's certification, and any supporting documentation provided to the importer by the exporter, upon request of either agency.

(K) I understand that the claims made herein, and the substantiating documentation, are subject to verification by CBP and/or Commerce.

(L) I understand that failure to maintain the required certification and supporting documentation, or failure to substantiate the claims made herein, or not allowing CBP and/or Commerce to verify the claims made herein, may result in a de facto determination that all entries to which this certification applies are within the scope of the antidumping duty and countervailing duty orders on AWC from China. I understand that such finding will result in:

(i) suspension of liquidation of all unliquidated entries (and entries for which liquidation has not become final) for which these requirements were not met;

(ii) the importer being required to post the cash deposits determined by Commerce; and

(iii) the importer no longer being allowed to participate in the certification process.

(M) I understand that agents of the importer, such as brokers, are not permitted to make this Certification.

This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

(N) I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Exporter Certification

The party that made the sale to the United States should fill out the exporter certification.

I hereby certify that:

(A) My name is {COMPANY OFFICIAL'S NAME} and I am an official of {NAME OF FOREIGN COMPANY THAT MADE THE SALE TO THE UNITED STATES); located at {ADDRESS OF FOREIGN COMPANY THAT MADE THE SALE TO THE UNITED STATES).

(B) I have direct personal knowledge of the facts regarding the production and exportation of the aluminum wire and cable (AWC) for which sales are identified below. “Direct personal knowledge” refers to facts the certifying party is expected to have in its own records. For example, an exporter should have direct personal knowledge of the producer's identity and location.

(C) The AWC covered by this certification was shipped to {NAME OF PARTY IN THE UNITED STATES TO WHOM THE MERCHANDISE WAS FIRST SHIPPED}, located at {U.S. ADDRESS TO WHICH THE MERCHANDISE WAS SHIPPED}.

(D) The AWC covered by this certification does not contain aluminum wire rod, aluminum wire strand, or aluminum wire produced in the People's Republic of China.

(E) This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of AWC:

Location (Country) of Producer of AWC:

(F) The AWC covered by this certification was shipped to {NAME OF U.S. PARTY TO WHOM MERCHANDISE WAS SHIPPED}, located at {U.S. ADDRESS TO WHICH MERCHANDISE WAS SHIPPED}.

(G) I understand that {NAME OF FOREIGN COMPANY THAT MADE THE SALE TO THE UNITED STATES} is required to maintain a copy of this certification and sufficient documentation supporting this certification (i.e., documents maintained in the normal course of business, or documents obtained by the certifying party, for example, product data sheets, mill test reports, productions records, invoices, etc.) until the later of: (1) the date that is five years after the latest date of the entries covered by the certification; or (2) the date that is three years after the conclusion of any litigation in the United States courts regarding such entries.

(H) I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency.

(I) I understand that the claims made herein, and the substantiating documentation, are subject to verification by CBP and/or Commerce.

(J) I understand that failure to maintain the required certification and supporting documentation, or failure to substantiate the claims made herein, or not allowing CBP and/or Commerce to verify the claims made herein, may result in a de facto determination that all sales to which this certification applies are within the scope of the antidumping duty order and countervailing duty order on AWC from China. I understand that such a finding will result in:

(i) suspension of all unliquidated entries (and entries for which liquidation has not become final) for which these requirements were not met;

(ii) the importer being required to post the cash deposits determined by Commerce; and

(iii) the seller/exporter no longer being allowed to participate in the certification process.

(K) I understand that agents of the seller/exporter, such as freight forwarding companies or brokers, are not permitted to make this certification.

(L) This certification was completed and signed, and a copy of the certification was provided to the importer, on, or prior to, the date of shipment if the shipment date is more than 14 days after the date of publication of the notice of Commerce's preliminary determination of circumvention in the Federal Register. If the shipment date is on or before the 14th day after the date of publication of the notice of Commerce's preliminary determination of circumvention in the Federal Register, this certification was completed and signed, and a copy of the certification was provided to the importer, by no later than 45 days after publication of the notice of Commerce's preliminary determination of circumvention in the Federal Register.

(M) I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2024-17473 Filed 8-6-24; 8:45 am]

BILLING CODE 3510-DS-P